DEPARTMENT OF THE INTERIOR

Bureau of Land Management

[MT-926-06-1420-BJ-TRST]

Montana: Filing of Plat of Survey

AGENCY: Bureau of Land Management, Montana State Office, Interior.

ACTION: Notice of Filing of Plat of Survey.

SUMMARY: The Bureau of Land Management (BLM) will file the plats of survey of the lands described below in the BLM Montana State Office, Billings, Montana, thirty (30) days from the date of publication in the Federal Register.

FOR FURTHER INFORMATION CONTACT: Randy Thomas, Cadastral Surveyor, Branch of Cadastral Survey, Bureau of Land Management, 5001 Southgate Drive, Billings, Montana 59101-4669, telephone (406) 896-5134 or (406) 896-5009.

SUPPLEMENTARY INFORMATION: This survey was executed at the request of the Rocky Mountain Regional Director, Bureau of Indian Affairs, and was necessary to determine Trust and Tribal land.

The lands we surveyed are:

Principal Meridian, Montana

T. 27 N., R. 53 E.

The plat, in two sheets, representing the dependent resurvey of portions of the east, west, and north boundaries, a portion of the subdivisional lines, the adjusted original meanders of the former left bank of the Missouri River, downstream, through sections 1, 2, and 6, and a portion of the subdivision of sections 1, 2, and 6, the subdivision of sections 1 and 2, and the survey of the meanders of the present left bank of the Missouri River, downstream, through sections 1, 2, and 6, and certain division of accretion lines, in Township 27 North, Range 53 East, Principal Meridian, Montana, was accepted April 26, 2006.

We will place a copy of the plats, in two sheets, and related field notes we described in the open files. They will be available to the public as a matter of information.

If BLM receives a protest against these surveys, as shown on these plats, in two sheets, prior to the date of the official filing, we will stay the filing pending our consideration of the protest.

We will not officially file these plats, in two sheets, until the day after we have accepted or dismissed all protests and they have become final, including decisions or appeals.

Dated: May 3, 2006.
Thomas M. Deiling,
Chief Cadastral Surveyor, Division of Resources.

[FR Doc. E6-7104 Filed 5-9-06; 8:45 am]

BILLING CODE 4310-$$-P